DEPARTMENT OF THE INTERIOR

National Park Service

[NPS-WASO-NAGPRA-NPS0037231; PPWOCRADN0-PCU00RP14.R50000]

Notice of Inventory Completion Amendment: U.S. Department of the Interior, Bureau of Land Management, Alaska State Office, Anchorage, AK

AGENCY: National Park Service, Interior.

ACTION: Notice; amendment.

SUMMARY: In accordance with the Native American Graves Protection and Repatriation Act (NAGPRA), the U.S. Department of the Interior, Bureau of Land Management, Alaska State Office (BLM Alaska) has amended a Notice of Inventory Completion published in the Federal Register on May 4, 2010. This notice amends the minimum number of individuals and number of associated funerary objects in a collection removed from Umnak Island, Aleutians West Borough, AK.

DATES: Repatriation of the human remains and associated funerary objects in this notice may occur on or after February 12, 2024.

ADDRESSES: Miriam (Nicole) Hayes, Bureau of Land Management, Alaska State Office, 222 W. 7th Avenue, #13, Anchorage, AK 99513, telephone (907) 271-4354, email mnhayes@blm.gov.

SUPPLEMENTARY INFORMATION: This notice is published as part of the National Park Service's administrative responsibilities under NAGPRA. The determinations in this notice are the sole responsibility of BLM Alaska. The National Park Service is not responsible for the determinations in this notice. Additional information on the amendments and determinations in this notice, including the results of consultation, can be found in the inventory or related records held by BLM Alaska.

Amendment

This notice amends the determinations published in a Notice of Inventory Completion in the Federal Register (73 FR 47224, August 13, 2008) and corrected on May 4, 2010 (75 FR 23804-23805). Repatriation of the items in the original and corrected Notices of Inventory Completion has not occurred. Additional human remains and associated funerary objects have been found.

From the Chaluka Site at the Native Village of Nikolski, Ogalodox site, Sandy Beach site, and nearby smaller sites on Umnak Island, Aleutians West Borough, AK, 290 individuals were removed (previously identified as 222 individuals). The 1,546 associated funerary objects (previously identified as 276 associated funerary objects) include a variety of stone, bone, shell, and ivory items identified as harpoons, scrapers, perforators, abraders, adzes, awls, gravers, reamers, sinkers, labrets, a comb, a necklace, knives, needles, pins, bowls, pestles, spoons, hooks, flakes, and undetermined tool or personal adornment fragments.

Determinations (as amended)

Pursuant to NAGPRA and its implementing regulations, and after consultation with the appropriate Indian Tribes and Native Hawaiian organizations, the BLM Alaska has determined that:

• The human remains represent the physical remains of 290 individuals of Native American ancestry.

• The 1,546 objects are reasonably believed to have been placed with or near individual human remains at the time of death or later as part of the death rite or ceremony.

• There is a relationship of shared group identity that can be reasonably traced between the human remains and associated funerary objects and the Native Village of Nikolski.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 12, 2024. If competing requests for repatriation are received, the BLM Alaska must determine the most appropriate requestor prior to repatriation. Requests for joint repatriation of the human remains and associated funerary objects are considered a single request and not competing requests. The BLM Alaska is responsible for sending a copy of this notice to the Indian Tribes and Native Hawaiian organizations identified in this notice.

Authority: Native American Graves Protection and Repatriation Act, 25 U.S.C. 3003, and the implementing regulations, 43 CFR 10.9, 10.10, 10.13, and 10.14.

Dated: January 5, 2024.
Melanie O'Brien,
Manager, National NAGPRA Program.

[FR Doc. 2024-00528 Filed 1-11-24; 8:45 am]

BILLING CODE 4312-52-P